DEPARTMENT OF THE INTERIOR

Bureau of Indian Affairs

[201A2100DD/AAKC001030/A0A501010.999900 253G]

Tribal Consultation Regarding the Indian Employment, Training, and Related Services Demonstration Act

AGENCY: Bureau of Indian Affairs, Interior.

ACTION: Notice of Tribal consultation.

SUMMARY: The Office of the Assistant Secretary—Indian Affairs (AS-IA) will be hosting a consultation session by webinar with interested Tribes regarding the 477 Program.

DATES: Comments must be received on or before Thursday, April 30, 2020. Consultation by webinar will be held Wednesday, April 15, 2020 at 1 p.m. See the SUPPLEMENTARY INFORMATION section of this notice for information on joining the webinar.

ADDRESSES: Send comments to: consultation@bia.gov, or by mail to: Deputy Bureau Director—Indian Services, MS-4660, 1849 C Street NW, Washington, DC 20240.

FOR FURTHER INFORMATION CONTACT: Dawn Selwyn, Acting Associate Deputy Bureau Director—Indian Services at (202) 208-6941.

SUPPLEMENTARY INFORMATION: Several Federal agencies, including Interior, are party to an interagency memorandum of agreement (MOA) to implement Public Law 102-477, the Indian Employment, Training, and Related Services Demonstration Act of 1992 (477 Program).

We invite Tribes to attend to a consultation session by webinar, to provide input on the 477 Program on Wednesday, April 15, 2020, 1 p.m. to 3 p.m.:

• To join the Webinar, go to this link: https://bia-oishs.webex.com/bia-oishs/j.php?MTID=mfb5d92db4acef795d0d282c3f855187e, enter meeting number: 795 506 785, Password: 477Program.

• To join by phone: (877) 417-9689 passcode 1730174.

The Department previously announced this webinar session in a March 6, 2020 letter to Tribal leaders. That letter also announced sessions on April 6, 2020 in Nashville, Tennessee, and April 28, 2020, in Burlingame, California that have since been canceled due to cancellation of the associated conferences (the Native American Finance Officers Association 38th Annual Conference and the 2020 Tribal Self-Governance Conference). The Department will announce any rescheduled sessions in a future letter to Tribes and by Federal Register notice, as appropriate.

Tara Sweeney,
Assistant Secretary—Indian Affairs.

[FR Doc. 2020-06953 Filed 4-2-20; 8:45 am]

BILLING CODE 4337-15-P